INTERNATIONAL TRADE COMMISSION

[Investigation No. 731-TA-718 (Fifth Review)]

Glycine From China

Determination

On the basis of the record ¹ developed in the subject five-year review, the United States International Trade Commission (“Commission”) determines, pursuant to the Tariff Act of 1930 (“the Act”), that revocation of the antidumping duty order on glycine from China would be likely to lead to continuation or recurrence of material injury to an industry in the United States within a reasonably foreseeable time.²

¹ The record is defined in § 207.2(f) of the Commission's Rules of Practice and Procedure (19 CFR 207.2(f)).

² Commissioner Amy A. Karpel not participating.

Background

The Commission instituted this review on January 3, 2022 (87 FR 112) and determined on April 8, 2022 that it would conduct an expedited review (87 FR 44422, July 26, 2022).

The Commission made this determination pursuant to section 751(c) of the Act (19 U.S.C. 1675(c)). It completed and filed its determination in this review on August 30, 2022. The views of the Commission are contained in USITC Publication 5347 (August 2022), entitled Glycine from China: Investigation No. 731-TA-718 (Fifth Review).

By order of the Commission.
Issued: August 30, 2022.
Katherine Hiner,
Acting Secretary to the Commission.

[FR Doc. 2022-19088 Filed 9-1-22; 8:45 am]

BILLING CODE 7020-02-P